DEPARTMENT OF TRANSPORTATION

Federal Aviation Administration

14 CFR Part 39

[Docket No. FAA-2007-29316; Directorate Identifier 2007-CE-078-AD; Amendment 39-15334; AD 2008-02-04]

RIN 2120-AA64

Airworthiness Directives; Eclipse Aviation Corporation Model EA500 Airplanes

AGENCY: Federal Aviation Administration (FAA), Department of Transportation (DOT).

ACTION: Final rule.

SUMMARY: We are adopting a new airworthiness directive (AD) that supersedes AD 2007-13-11, which applies to all Eclipse Aviation Corporation (Eclipse) Model EA500 airplanes. AD 2007-13-11 was prompted by reports of loss of primary airspeed indication due to freezing condensation within the pitot system. AD 2007-13-11 requires operational limitations consisting of operation only in day visual flight rules (VFR), allowing only a VFR flight plan, and maintaining operation with two pilots. Since we issued AD 2007-13-11, Eclipse developed a design modification to the pitot/angle-of-attack (AOA) system to eliminate the possibility of freezing condensation within the pitot/AOA system. Eclipse is incorporating this modification during production on Model EA500 airplanes starting with serial number (S/N) 000065. Consequently, this AD limits the applicability to airplanes under S/N 000065 and requires incorporating the modification. This AD also retains the operating limitations in AD 2007-13-11 until the modification is incorporated. We are issuing this AD to prevent long-term reliance on special operating limitations when a design change exists that will eliminate the need for the operating limitations. Incorporating the modification will prevent loss of air pressure in the pitot system, which could cause erroneous AOA and airspeed information with consequent loss of control.

DATES: This AD becomes effective on February 26, 2008.

On February 26, 2008, the Director of the Federal Register approved the incorporation by reference of certain publications listed in this AD.

ADDRESSES: For service information identified in this AD, contact Eclipse Aviation Corporation, 2503 Clark Carr Loop, SE., Albuquerque, NM 87105, fax: 505-241-8802; e-mail: customercare@eclipseaviation.com.

To view the AD docket, go to U.S. Department of Transportation, Docket Operations, M-30, West Building Ground Floor, Room W12-140, 1200 New Jersey Avenue, SE., Washington, DC 20590, or on the Internet at http://www.regulations.gov. The docket number is FAA-2007-29316; Directorate Identifier 2007-CE-078-AD.

FOR FURTHER INFORMATION CONTACT: Al Wilson, Flight Test Pilot, Airplane Certification Office, FAA, 2601 Meacham Blvd., Fort Worth, Texas 76137-4298; telephone: (817) 222-5146; fax: (817) 222-5960.

SUPPLEMENTARY INFORMATION:

Discussion

On October 15, 2007, we issued a proposal to amend part 39 of the Federal Aviation Regulations (14 CFR part 39) to include an AD that would apply to all Eclipse Aviation Corporation (Eclipse) Model EA500 airplanes. This proposal was published in the Federal Register as a notice of proposed rulemaking (NPRM) on October 19, 2007 (72 FR 59225). The NPRM proposed to supersede AD 2007-13-11 with a new AD that would change the Applicability section and would require you to incorporate the design modification of the pitot/angle-of-attack (AOA) system. The NPRM also proposed to retain the operating limitations in AD 2007-13-11 until the modification is incorporated.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 64 airplanes in the U.S. registry.

We estimate the following costs to do the modification:

Labor cost | Parts cost | Total cost per airplane | Total cost on U.S. operators
30 work-hours × $80 per hour = $2,400 | $7,000 | $9,400 | $601,600

Warranty credit will be given to the extent specified in the service bulletin.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-29316; Directorate Identifier 2007-CE-078-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-13-11, Amendment 39-15115 (72 FR 34363, June 22, 2007), and adding the following new AD:

2008-02-04 Eclipse Aviation Corporation: Amendment 39-15334; Docket No. FAA-2007-29316; Directorate Identifier 2007-CE-078-AD.

Effective Date

(a) This AD becomes effective on February 26, 2008.

Affected ADs

(b) This AD supersedes AD 2007-13-11, Amendment 39-15115.

Applicability

(c) This AD applies to Model EA500 airplanes, serial numbers 000001 through 000064, that are certificated in any category.

Unsafe Condition

(d) Reports of three instances of loss of primary airspeed indication due to freezing condensation within the pitot system prompted us to issue AD 2007-13-11. This AD results from Eclipse developing a design modification to the pitot/angle-of-attack (AOA) system that eliminates the possibility of freezing condensation within the pitot/AOA system. Eclipse is incorporating this modification during production on Model EA500 airplanes starting with serial number 000065. We are issuing this AD to prevent long-term reliance on special operating limitations when a design change exists that would eliminate the need for the operating limitations. Incorporating the modification would prevent loss of air pressure in the pitot system, which could cause erroneous AOA and airspeed information with consequent loss of control.

Compliance

(e) To address this problem, you must do the following, unless already done:

Actions | Compliance | Procedures
(1) Incorporate the following into the Limitations section of the airplane flight manual (AFM): (i) “Operate Only in Day Visual Flight Rules (VFR);” (ii) “File Only a VFR Flight Plan;” and (iii) “Operate with Two Pilots at All Times.” | Before further flight after June 27, 2007 (the effective date of AD 2007-13-11). | The owner/operator holding at least a private pilot certificate as authorized by section 43.7 of the Federal Aviation Regulations (14 CFR 43.7) may insert the information into the AFM as specified in paragraph (e)(1) of this AD. You may insert a copy of this AD into the Limitations section of the AFM to comply with this action. Make an entry into the aircraft records showing compliance with this portion of the AD in accordance with section 43.9 of the Federal Aviation Regulations (14 CFR 43.9).
(2) Incorporate the design modification to the pitot/AOA system. When incorporated, this design modification terminates the AFM operational limitations required in paragraph (e)(1) of this AD. | Within the next 60 days after February 26, 2008 (the effective date of this AD). | Following Eclipse Aviation Alert Service Bulletin Number SB 500-34-005, Rev B, issued July 10, 2007.

Alternative Methods of Compliance (AMOCs)

(f) The Manager, Fort Worth Airplane Certification Office, FAA, has the authority to approve AMOCs for this AD, if requested using the procedures found in 14 CFR 39.19. Send information to ATTN: Al Wilson, Flight Test Pilot, 2601 Meacham Blvd., Fort Worth, Texas 76137-4298; telephone: (817) 222-5146; fax: (817) 222-5960.

Before using any approved AMOC on any airplane to which the AMOC applies, notify your appropriate principal inspector (PI) in the FAA Flight Standards District Office (FSDO), or lacking a PI, your local FSDO.

(g) AMOCs approved for AD 2007-13-11 are approved for this AD.

Material Incorporated by Reference

(h) You must use Eclipse Aviation Alert Service Bulletin Number SB 500-34-005, Rev B, issued July 10, 2007, to do the actions required by this AD, unless the AD specifies otherwise.

(1) The Director of the Federal Register approved the incorporation by reference of this service information under 5 U.S.C. 552(a) and 1 CFR part 51.

(2) For service information identified in this AD, contact Eclipse Aviation Corporation, 2503 Clark Carr Loop, SE., Albuquerque, NM 87105, fax: 505-241-8802; e-mail: customercare@eclipseaviation.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on January 9, 2007.
John Colomy,
Acting Manager, Small Airplane Directorate, Aircraft Certification Service.

[FR Doc. E8-751 Filed 1-18-08; 8:45 am]

BILLING CODE 4910-13-P